NUCLEAR REGULATORY COMMISSION

[NRC-2014-0093]

Medical Evaluation of Licensed Personnel for Nuclear Power Plants

AGENCY: Nuclear Regulatory Commission.

ACTION: Regulatory guide; issuance.

SUMMARY: The U.S. Nuclear Regulatory Commission (NRC) is issuing revision 4 to Regulatory Guide (RG) 1.134, “Medical Assessment of Licensed Operators or Applicants for Operator Licenses at Nuclear Power Plants.” The NRC is updating RG 1.134 based upon the regulatory experience gained since the previous revision was issued and to endorse the 2013 revision to the underlying consensus standard, American National Standard Institute/American Nuclear Society (ANSI/ANS) Standard 3.4, “Medical Certification and Monitoring of Personnel Requiring Licenses for Nuclear Power Plants.” The guide helps to ensure that medical certifications (and related medical evidence) are sufficient to meet the NRC's nuclear power reactor operator licensing requirements.

ADDRESSES: Please refer to Docket ID NRC-2014-0093 when contacting the NRC about the availability of information regarding this document. You may obtain publicly-available information related to this document using any of the following methods:

• Federal Rulemaking Web site: Go to http://www.regulations.gov and search for Docket ID NRC-2014-0093. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 4 of Regulatory Guide 1.134 is available in ADAMS under Accession No. ML14189A385. The regulatory analysis may be found in ADAMS under Accession No. ML13352A279.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Lawrence Vick, Office of Nuclear Reactor Regulation, telephone: 301-415-3181, email: Lawrence.Vick@nrc.gov, or Richard Jervey, Office of Nuclear Regulatory Research, telephone: 301-251-7404, email: Richard.Jervey@nrc.gov. Both are staff of the U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 4 of RG 1.134 was issued with a temporary identification as draft regulatory guide (DG), DG-1310. The guidance is intended for use by nuclear power plant license holders under part 50 of Title 10 of the Code of Federal Regulations (10 CFR), “Domestic Licensing of Production and Utilization Facilities,” and 10 CFR Part 52, “Licenses, Certifications, and Approvals for Nuclear Power Plants.” Licensees of these facilities are required under 10 CFR 50.54, “Conditions of Licensees,” to use qualified licensed operators as described in 10 CFR Part 55, “Operators' Licenses.”

Regulatory Guide 1.134, Revision 3, “Medical Evaluation of Licensed Personnel for Nuclear Power Plants,” was issued in 1998 to identify that consensus standard ANSI/ANS 3.4 (1996), “Medical Certification and Monitoring of Personnel Requiring Operator Licenses for Nuclear Power Plants,” was a method acceptable to the staff for complying with those portions of the NRC's regulations associated with approval or acceptance of medical examination certifications at nuclear power plants.

The consensus standard ANSI/ANS 3.4 was issued in 2013 to provide clarification and comprehensive medical guidance to improve industry's consistent implementation of the standard. This included clarification of specific minimum requirements, disqualifying conditions, conditional restrictions, examination methods, and monitoring methods for each medical area. The 2013 issue also included consideration of other industry medical standards, including those of the U.S. Department of Transportation and Federal Aviation Administration as well as medical criteria that reflected progressions in medical science including updated terminology, current medical practices, criteria for normality, and risk assessments.

Regulatory Guide 1.134 was revised to identify to licensees that ANSI/ANS 3.4-2013 is acceptable for their use. The guide helps to ensure that medical certifications (and related medical evidence) used to meet the operator licensing requirements of 10 CFR part 55 are sufficient with respect to (1) an applicant's or operator licensee's medical examination, as described in 10 CFR 55.21, “Medical Examination”; (2) a facility licensee's medical certification, as described in 10 CFR 55.23, “Certification”; (3) an operator licensee's incapacitation because of disability or illness, as described in 10 CFR 55.25, “Incapacitation Because of Disability or Illness”; and (4) a facility licensee's medical documentation, as described in 10 CFR 55.27, “Documentation.”

II. Additional Information

The DG-1310 was published in the Federal Register on April 25, 2014 (79 FR 23017), for a 30-day public comment period. The public comment period closed on May 27, 2014. There were no public comments received

III. Congressional Review Act

This RG is a rule as defined in the Congressional Review Act (5 U.S.C. 801-808). However, the Office of Management and Budget has not found it to be a major rule as defined in the Congressional Review Act.

IV. Backfitting and Issue Finality

Regulatory Guide 1.134, Revision 4, provides updated guidance on the methods acceptable to the NRC staff for complying with the NRC's regulations associated with approval or acceptance of the medical assessment of an applicant for, or holder of, an operator or senior operator license at a nuclear power plant. The guide applies to current and future applicants for, and holders of, power reactor licenses under 10 CFR parts 50 and 52 and power reactor operating licenses under 10 CFR part 55. Issuance of RG 1.134, revision 4, does not constitute backfitting under 10 CFR part 50 and is not otherwise inconsistent with the issue finality provisions in 10 CFR Part 52. As discussed in the “Implementation” section of RG 1.134, revision 4, the NRC has no current intention to impose the RG on current holders of 10 CFR part 50 operating licenses or 10 CFR part 52 combined licenses. Part 55 does not contain backfitting or issue finality regulations, and power reactor operating licensees are not protected by the backfitting provisions in 10 CFR 50.109 or the 10 CFR part 52 issue finality provisions because neither 10 CFR 50.109 nor 10 CFR part 52 applies to 10 CFR part 55 power reactor operating licensees.

This RG could be applied to applications for 10 CFR part 50 operating licenses, 10 CFR part 52 combined licenses, or 10 CFR part 55 operator licenses. Such action would not constitute backfitting as defined in 10 CFR 50.109 or be otherwise inconsistent with the applicable issue finality provision in 10 CFR part 52, inasmuch as such applicants are not within the scope of entities protected by 10 CFR 50.109 or the relevant issue finality provisions in 10 CFR part 52.

Dated at Rockville, Maryland, this 30th day of September, 2014.
For the Nuclear Regulatory Commission.
Harriet Karagiannis,
Acting Chief, Regulatory Guidance and Generic Issues Branch, Division of Engineering, Office of Nuclear Regulatory Research.

[FR Doc. 2014-23717 Filed 10-3-14; 8:45 am]

BILLING CODE 7590-01-P